DEPARTMENT OF COMMERCE

Census Bureau

Agency Information Collection Activities; Submission to the Office of Management and Budget (OMB) for Review and Approval; Comment Request; Annual Survey of Manufactures

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 10, 2020 during a 60-day comment period. This notice allows for an additional 30 days for public comments.

Agency: U.S. Census Bureau.

Title: Annual Survey of Manufactures.

OMB Control Number: 0607-0449.

Form Number(s): MA-10000.

Type of Request: Regular submission, Request for a Revision of a Currently Approved Collection.

Number of Respondents: 49,000.

Average Hours per Response: 3.7.

Burden Hours: 181,300.

Needs and Uses: The Census Bureau has conducted the ASM since 1949 to provide key measures of manufacturing activity during intercensal periods. In census years ending in “2” and “7,” we do not mail the ASM separately, but collect the ASM data as part of the Economic Census covering the Manufacturing Sector.

The ASM statistics are based on a survey that includes both mail and nonmail components. The mail portion of the 2020 ASM consists of a probability sample that was designed from the 2017 Economic Census and contains the same industry strata and establishments from the 2019 ASM, updated with births. The 2019 ASM sample was based the 2017 North American Industry Classification System (NAICS).

The 2020 ASM mailout is expected to be approximately 49,000 establishments. This is the second year of the latest sample and is based within the same structure as 2019. The 2019 ASM establishments were selected from the eligible mail frame of approximately 104,900 establishments. The frame contained all manufacturing establishments of multiple-establishment firms (firms with operations at more than one location) and the largest single-establishment manufacturing firms within each industry. The 2019 ASM nonmail component contains approximately 186,700, small and medium-sized single-establishment firms. Births are added annually to the mail sample and the nonmail component, and no data are collected from firms in the nonmail component. Data are imputed based on models that incorporate the administrative records of the Internal Revenue Service (IRS), the Social Security Administration (SSA), and the Bureau of Labor Statistics (BLS) or are based on industry averages. Though the nonmail firms account for nearly two-thirds of the universe, they account for about 6 percent of the manufacturing output.

The Census Bureau plans to make the following changes to the ASM data collection:

A. Content Related to the Coronavirus Pandemic:

To truly measure the economic activity of the manufacturing sector, the Census Bureau is requesting approval to add questions related to the impact of the coronavirus pandemic. During internal Census Bureau discussions of proposed content key federal stakeholders were consulted; The proposed question descriptions are provided below:

1. Item 28—Special Inquiry:

Add a question asking respondents to provide the number of days their location was closed due to the coronavirus pandemic. This question will assist with measuring the impact on plant operations due to the coronavirus pandemic.

2. Item 5 and Item 28—Special Inquiry:

Add a statement to Item 5 to specify/clarify that donated products should be included in the value of shipments.

Add a question asking respondents if they donated products and the associated value of the donated products (breakout of Item 5, line A). Attempt to gather information on the value of shipments related to donated products by industry.

3. Item 7:

Add questions asking respondents to provide the payroll for production workers at the establishment by quarter. Collecting payroll information by range of months, rather than a point in time will reflect variability in operations.

4. Item 22:

Add the following six NAPCS to the electronic instrument for all respondents:

a. 2017900000—Manufacturing of nonelectric breathing devices (including N95 and other respirators), incubators, inhalators, and resuscitators, and other surgical and medical apparatus and instruments, excluding anesthetic apparatus and parts

b. 2018000000—Manufacturing of electromedical equipment (including diagnostic, therapeutic, patient monitoring equipment, and ventilators), excluding ionizing radiation equipment

c. 2050375000—Manufacturing of personal safety equipment and clothing, industrial and nonindustrial, including respiratory protection, face shields, masks, and protective clothing, excluding footwear, gloves, and surgical and medical respirators

d. 2045875000—Manufacturing of surgical appliances and supplies, including surgical gloves, bandages, gauze, cotton (sterile and non-sterile), and other surgical dressings, excluding orthopedic and prosthetic appliances

e. 2010475000—Manufacturing of bath, facial, and hand soaps, including hand sanitizers

f. 2007875000—Manufacturing of other household specialty cleaning and sanitation products, including disinfectants

Industries have shifted to produce goods they normally did not produce. Adding the proposed NAPCS questions to all forms will assist with capturing a shift in production lines.

B. Revisions to Item 7: Employment, Payroll, and Fringe Benefits:

a. Add content collecting four quarters of payroll for production workers to be consistent with employment (Item 7A).

b. Add collection for total first quarter employment to be consistent with payroll and other economic sectors.

c. Remove the summation of the 4 quarters of production workers.

d. Remove the average production workers question.

e. Revisions and adjustments will be made to the presentation/layout/content of employment and payroll questions to streamline and improve the flow.

C. Revisions to Item 5: Sales, Shipments, Receipts, or Revenue: Remove Item 5B, market value of products shipped to other domestic plants of the company for further assembly, fabrication, or manufacture. This question is poorly reported and not utilized by data users.

D. Revisions Related to Integrating Annual Surveys:

The Census Bureau is undertaking an initiative to integrate and re-engineer select annual programs. Programs include the Annual Survey of Manufactures (ASM), Annual Retail Trade Survey (ARTS), Annual Wholesale Trade Survey (AWTS), Service Annual Survey (SAS), Annual Capital Expenditures Survey (ACES), Manufacturing Shipments Inventories and Unfilled Orders (M3UFO), and Company Organization Survey (COS). Efforts include coordinating collection strategies/instruments/communication; integrating, changing or revising content; ensuring content is relevant; coordinating samples; and improving frame and coordinating status updates across annual surveys.

The initiative to integrate and re-engineer select annual programs is scheduled to begin implementation in survey year 2023. The goal is to shift select annual programs from individual independent surveys to a streamlined integrated annual program. The new annual program will move from industry focused, individual surveys to requesting a more holistic view of the companies. Prior to survey year 2023, we plan to begin to align our annual programs and improve efficiencies across programs in targeted areas related to consistent content, processes, and systems. The initiative is in response to data user needs (timely, granular, harmonized data), and declining response rates.

To this extent, the ASM is currently doing research to add the M3UFO (unfilled orders) questions to the ASM for Survey Year 2021. A combination of phone and in-person cognitive interviews with up to 40 respondents, over two rounds will begin in October 2020 and will likely conclude by March 2021. If it is determined that respondents are able to provide unfilled orders data at the establishment level, the Census Bureau plans to move the unfilled orders content to the ASM. By collecting this content on the ASM, we would eliminate the M3UFO survey.

This survey is an integral part of the government's statistical program. Its results provide a factual background for decision making by the executive and legislative branches of the Federal Government. Federal agencies use the annual survey's input and output data as benchmarks for their statistical programs, including the Federal Reserve Board's Index of Industrial Production and the Bureau of Economic Analysis' (BEA) estimates of the gross domestic product. The data also provide the Department of Energy with primary information on the use of energy by the manufacturing sector to produce manufactured products. These data also are used as benchmark data for the Manufacturing Energy Consumption Survey, which is conducted for the Department of Energy by the Census Bureau. Within the Census Bureau, the ASM data are used to benchmark and reconcile monthly and quarterly data on manufacturing production and inventories. The ASM is the only source of complete establishment statistics for the programs mentioned above.

The ASM furnishes up-to-date estimates of employment, payroll, hours, wages of production workers, value added by manufacture, cost of materials, value of shipments by NAPCS product code, inventories, cost of employer's fringe benefits, operating expenses, and expenditures for new and used plant and equipment. The survey provides data for most of these items at the two- through six-digit NAICS levels. The ASM also provides geographic data by state at a more aggregated industry level.

The survey also provides valuable information to private companies, research organizations, and trade associations. Industry makes extensive use of the annual figures on NAPCS product shipments at the U.S. level in its market analysis, product planning, and investment planning. State development/planning agencies rely on the survey as a major source of comprehensive economic data for policymaking, planning, and administration.

Affected Public: Business or other for-profit organizations.

Frequency: Annually.

Respondent's Obligation: Mandatory.

Legal Authority: Title 13, United States Code, Sections 131 and 182; Sections 224 and 225 make reporting for this survey mandatory.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0449.

Sheleen Dumas,
Department PRA Clearance Officer, Office of the Chief Information Officer, Commerce Department.

[FR Doc. 2020-25341 Filed 11-16-20; 8:45 am]

BILLING CODE 3510-07-P